DEPARTMENT OF ENERGY

Federal Energy Regulatory Commission

[Docket No. CP12-475-000]

Southern Star Central Gas Pipeline, Inc.; Notice of Request Under Blanket Authorization

Take notice that on June 4, 2012, Southern Star Central Gas Pipeline, Inc. (Southern Star), 4700 Highway 56, Owensboro, Kentucky 42301, filed in Docket No. CP12-475-000 a prior notice request pursuant to sections 157.205, 157.208 and 157.213 of the Federal Energy Regulatory Commission's (Commission) regulations under the Natural Gas Act as amended and Southern Star's blanket certificate issued in Docket No. CP82-479-000 ¹ for authorization to drill two new horizontal injection/withdrawal gas storage wells (I/W wells) in its existing Colony Gas Storage field located in Anderson and Allen Counties, Kansas, all as more fully set forth in the application which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

¹ 20 FERC ¶ 62,592

Specifically, Southern Star proposes to drill two new horizontal I/W wells in order to replace up to eighteen (18) vertical I/W wells located within the City of Colony, Kansas in close proximity to residential homes. Southern Star will file a separate abandonment application to plug and abandon up to 18 vertical I/W wells after confirmation that the designed operational capabilities of the two new horizontal I/W wells will allow the field to maintain its current operational capacities. Southern Star states the proposed project will not result in any changes to the current geological interpretation of the storage reservoir, the certificated field boundary, or the operations parameters of the Colony Storage field. The cost of the project is estimated at $3,750,000. Southern Star also proposes to install and operate two new 6-inch storage lateral pipelines connecting the two new I/W wells to the storage gathering system.

Any questions concerning this prior notice request may be directed to David N. Roberts, Staff Analyst, Regulatory Compliance, Southern Star Central Gas Pipeline, Inc. 4700 Highway 56, Owensboro, KY 42301, or call (270) 852-4654.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (www.ferc.gov) under the “e-Filing” link.

Persons unable to file electronically should submit an original and 14 copies of the protest or intervention to the Federal Energy Regulatory Commission, 888 First Street NE., Washington, DC 20426.

Dated: June 21, 2012.
Kimberly D. Bose,
Secretary.

[FR Doc. 2012-15834 Filed 6-27-12; 8:45 am]

BILLING CODE 6717-01-P